DEPARTMENT OF ENERGY

Federal Energy Regulatory Commission

[Docket No. EL09-40-000]

Southwest Power Pool, Inc.; Notice of Initiation of Proceeding and Refund Effective Date

March 20, 2009.

On March 19, 2009, the Commission issued an order that initiated a proceeding in Docket No. EL09-40-000, pursuant to section 206 of the Federal Power Act (FPS), 16 U.S.C. 824e (2005), to determine the justness and reasonableness of certain language in section 2.2 of Southwest Power Pool, Inc's. existing Open Access Transmission Tariff.

The refund effective date in Docket No. EL09-40-000, established pursuant to section 206(b) of the FPA, will be the date of publication of this notice in the Federal Register.

Kimberly D. Bose,
Secretary.

[FR Doc. E9-6870 Filed 3-26-09; 8:45 am]

BILLING CODE